DEPARTMENT OF TRANSPORTATION

Federal Highway Administration

Environmental Impact Statement: Alexander, Pulaski, and Union Counties, Illinois

AGENCY: Federal Highway Administration (FHWA), DOT.

ACTION: Notice of intent.

SUMMARY: The FHWA is issuing this notice to advise the public that an Environmental Impact Statement (EIS) will be prepared for the Shawnee Parkway Project in Alexander, Pulaski, and Union Counties, Illinois.

FOR FURTHER INFORMATION CONTACT: Catherine A. Batey, Division Administrator, Federal Highway Administration, 3250 Executive Park Drive, Springfield, Illinois 62703. Phone: (217) 492-4600. Jeffrey L. Keirn, PE., Deputy Director of Highways, Region Five Engineer, Illinois Department of Transportation, State Transportation Building, 2801 W. Murphysboro, P.O. Box 100, Carbondale, Illinois 62903, (618) 549-2171.

SUPPLEMENTARY INFORMATION: The FHWA, in cooperation with Illinois Department of Transportation, will prepare an EIS for the Shawnee Parkway project. The anticipated termini are the intersection of Illinois Route 3 with Illinois Route 146 and Interstate 57. The project study area includes portions of the following counties: Alexander, Pulaski, and Union in Illinois. The study area covers approximately 350 square miles.

The EIS for the Shawnee Parkway is being conducted to evaluate the need for improved transportation between the anticipated termini within the study area. The EIS will complete an analysis of transportation alternative(s) in the study area and evaluate environmental impacts based on field investigations, transportation studies, economic impact studies, and cost analysis.

Alternatives assessed will seek to avoid, minimize and mitigate impacts to resources in the project area. In accordance with IDOT policies, the project is being developed using Context Sensitive Solutions (CSS) as a basis for a stakeholder outreach program. A scoping meeting will be held on December 3, 2015.

A range of alternatives will be developed and evaluated, including but not limited to: Taking no action, existing roadway improvements, and new roadways on new location. The Stakeholder Involvement Plan (SIP), which will satisfy the 23 U.S.C. Section 139 requirements for a coordination plan, will be developed to ensure that a full range of issues related to this proposed project are identified and addressed. The SIP provides meaningful opportunities for all stakeholders to participate in defining transportation issues and solutions for the study area.

Comments or questions concerning this proposed action and the EIS are invited from all interested parties and should be directed to the FHWA at the address provided above or the following Web site: www.shawneeparkway.org.

A public hearing will be held after the Draft EIS is published and made available for public and agency review. Public notice will be given of the time and place of public meetings and hearings.

The EIS will conclude with a Record of Decision selecting either a no-build or a preferred alternative.

(Catalog of Federal Domestic Assistance Program Number 20.205, Highway Research, Planning and Construction. The regulations implementing Executive Order 12372 regarding intergovernmental consultation on Federal programs and activities apply to this program)

Issued on: November 19, 2015.
Catherine A. Batey,
Division Administrator, Federal Highway Administration, Springfield, Illinois.

[FR Doc. 2015-30003 Filed 11-24-15; 8:45 am]

BILLING CODE 4910-22-P